DEPARTMENT OF JUSTICE

Notice of Lodging Proposed Consent Decree

In accordance with Departmental Policy, 28 CFR 50.7, notice is hereby given that a proposed consent decree in United States v. Betteroads Asphalt Corporation, No. 02-1548(DRD), was lodged with the United States District Court for the District of Puerto Rico on April 9, 2002. This proposed Consent Decree concerns a complaint filed by the United States against Betteroads Asphalt Corporation (“Defendant”) under the Clean Water Act, 33 U.S.C. 1311(a), to obtain injunctive relief from and impose civil penalties against the Defendant for the unauthorized discharge of pollutants into waters of the United States on the Rio Grande de Añasco, at the Municipality of Añasco, Puerto Rico

The proposed Consent Decree, among other things, (1) enjoins the Defendant from taking any actions that would discharge dredged or fill material into waters of the United States except in compliance with the provisions of the Clean Water Act and its implementing regulations, (2) requires the Defendant to pay civil penalties in the amount of $100,000.00; and (3) requires the Defendant to make an additional donation of $75,000.00 to the Fundacion para la Conservacion de la Paloma Sabanera, Inc. (Foundation for the Conservation of the Sabanera Pigeon).

The Department of Justice will accept written comments relating to this proposed Consent Decree for thirty (30) days from the date of publication of this notice. Please address comments to Angeline Purdy, Trial Attorney, Environmental Defense Section, U.S. Department of Justice, P.O. Box 23986, Washington, DC 20026-3986. All comments must refer to United States v. Betteroads Asphalt Corporation, Department of Justice Reference No. 90-5-1-4-16212.

The proposed Consent Decree is on file at the Clerk's Office, United States District Court for the District of Puerto Rico at Frederico Degetau Federal Building, 150 Carlos Chardon Avenue, Hato Rey, Puerto Rico 00918, and may be examined there to the extent allowed by the rules of the Clerk's Office. In addition, the proposed Consent Decree may be viewed on the World Wide Web at http://www.usdoj.gov/.enrd/open.html.

Mary F. Edgar,
Assistant Chief, Environmental Defense Section, Environmental & Natural Resources Division.

[FR Doc. 02-17362 Filed 7-9-02; 8:45 am]

BILLING CODE 4410-15-M